DEPARTMENT OF ENERGY

Federal Energy Regulatory Commission

Combined Notice of Filings

Take notice that the Commission has received the following Natural Gas Pipeline Rate and Refund Report filings:

Filings Instituting Proceedings

Docket Numbers:RP26-293-000.

Applicants:Anigriv LLC.

Description:Application for Blanket Marketing Certificate of Anigriv LLC.

Filed Date:12/9/25.

Accession Number:20251209-0018.

Comment Date:5 p.m. ET 12/22/25.

Docket Numbers: RP26-297-000.

Applicants: Wyoming Interstate Company, L.L.C.

Description: § 4(d) Rate Filing: Negotiated Rate Agreements Filing (Koch_Lands End_Mieco Jan 2026) to be effective 1/1/2026.

Filed Date: 12/15/25.

Accession Number: 20251215-5402.

Comment Date: 5 p.m. ET 12/29/25.

Docket Numbers: RP26-298-000.

Applicants: Portland Natural Gas Transmission System.

Description: Portland Natural Gas Transmission System submits 2025 Fuel and LAUF Report.

Filed Date: 12/15/25.

Accession Number: 20251215-5462.

Comment Date: 5 p.m. ET 12/29/25.

Docket Numbers: RP26-299-000.

Applicants: Equitrans, L.P.

Description: § 4(d) Rate Filing: Formula Based Negotiated Rates—1/1/2026 to be effective 1/1/2026.

Filed Date: 12/16/25.

Accession Number: 20251216-5059.

Comment Date: 5 p.m. ET 12/29/25.

Docket Numbers: RP26-300-000.

Applicants: Columbia Gas Transmission, LLC.

Description: Compliance filing: Penalty Revenue Crediting Report 2025 to be effective N/A.

Filed Date: 12/16/25.

Accession Number: 20251216-5078.

Comment Date: 5 p.m. ET 12/29/25.

Docket Numbers: RP26-301-000.

Applicants: Cheniere Creole Trail Pipeline, L.P.

Description: § 4(d) Rate Filing: Creole Trail Revised Tariff Filing to be effective 1/16/2026.

Filed Date: 12/16/25.

Accession Number: 20251216-5100.

Comment Date: 5 p.m. ET 12/29/25.

Docket Numbers: RP26-302-000.

Applicants: Sea Robin Pipeline Company, LLC.

Description: § 4(d) Rate Filing: Annual Flowthrough Crediting Mechanism Filing 12-16-25 to be effective 2/1/2026.

Filed Date: 12/16/25.

Accession Number: 20251216-5151.

Comment Date: 5 p.m. ET 12/29/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 16, 2025.
Carlos D. Clay,
Deputy Secretary.

[FR Doc. 2025-23422 Filed 12-18-25; 8:45 am]

BILLING CODE 6717-01-P